DEPARTMENT OF EDUCATION

National Assessment Governing Board: Proposed Information Collection

AGENCY: National Assessment Governing Board.

ACTION: Agency Information Collection Activities: Submission for OMB Review; Comment Request.

SUMMARY: In compliance with the requirement of section 3506(c)(2)(A) of the Paperwork Reduction Act of 1995, the National Assessment Governing Board is publishing the following summary of a proposed information collection for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; (4) ways to minimize the burden of the collection of information on respondents, including through the use of automated collection techniques or other forms of information technology; and (5) estimates of capital or start-up costs and costs of operation, maintenance, and purchase of services to provide information.

Type of Information Collection Request: New information collection.

Title of Information Collection: Survey of Placement Tests and Cut-Scores in Higher Education Institutions.

Use: The congressionally authorized National Assessment of Educational Progress (NAEP) reports to the public on the achievement of students at grades 4, 8, and 12 in core subjects. The National Assessment Governing Board oversees and sets policy for NAEP. NAEP and the Governing Board are authorized under the National Assessment of Educational Progress Authorization Act (Pub. L. 107-279).

Among the Board's responsibilities is “to improve the form, content, use, and reporting of [NAEP results].” Toward this end, the Governing Board plans to enable NAEP at the 12th grade to report on the academic preparedness of 12th grade students in reading and mathematics for entry level college credit coursework.

The Governing Board has planned a program of research studies to support the validity of statements about 12th grade student preparedness that would be made in NAEP reports, beginning with the 2009 assessments in 12th grade reading and mathematics. Among the studies planned is a survey of 2-year and 4-year institutions of higher education about the tests and test scores used to place students into entry level college credit coursework leading to a degree and into non-credit remedial or developmental programs in reading and/or mathematics. The data resulting from this survey will be used to help develop valid statements that can be made about the preparedness of 12th grade students in NAEP reports.

Frequency: One time only; Affected Public: State, Local or Tribal Governments (2-year and 4-year public higher education institutions); Private Sector Not-For-Profit Institutions (2-year and 4-year private higher education institutions); Number of Respondents: 3,700; Total Annual Responses: 3,700; Total Annual Hours: 1,542.

To obtain copies of the proposed survey and/or supporting statement for the proposed paperwork collection referenced above, e-mail your request, including your address and phone number, to Ray.Fields@ed.gov or call 202-357-0395.

To be assured consideration, comments and recommendations for the proposed information collection must be received by the OMB desk officer at the address below, no later than 5 p.m. on March 25, 2009:

OMB, Office of Information and Regulatory Affairs, Attention: Education Desk Officer, New Executive Office Building, 725 17th St, NW., Room 10235, Washington, DC 20503, Fax Number: (202) 395-6974, E-mail (OIRA_submission@omb.eop.gov).

Dated: February 18, 2009.
Ray Fields,
Authorized Agency Paperwork Contact, National Assessment Governing Board.

[FR Doc. E9-3793 Filed 2-20-09; 8:45 am]

BILLING CODE 4000-01-P